DEPARTMENT OF TRANSPORTATION

National Highway Traffic Safety Administration

[Docket Number NHTSA-2022-0020]

Agency Information Collection Activities; Notice and Request for Comment; Labeling of Motor Vehicle Brake Fluid Containers

AGENCY: National Highway Traffic Safety Administration (NHTSA), Department of Transportation (DOT).

ACTION: Notice and request for comments on a reinstatement of a previously approved collection of information.

SUMMARY: The National Highway Traffic Safety Administration (NHTSA) invites public comments about its intention to request approval by the Office of Management and Budget (OMB) to reinstate a previously approved information collection. Before a Federal agency can collect certain information from the public, it must receive approval from OMB. Under procedures established by the Paperwork Reduction Act of 1995, before seeking OMB approval, Federal agencies must solicit public comment on proposed collections of information, including extensions and reinstatements of previously approved collections. This document describes a collection of information for which NHTSA intends to seek OMB approval on labeling of motor vehicle brake fluid containers.

DATES: Written comments must be submitted by July 1, 2022.

ADDRESSES: You may submit comments identified by Docket No. NHTSA-2022-0020 through any of the following methods:

• Electronic submissions: Go to the Federal eRulemaking Portal at http://www.regulations.gov. Follow the online instructions for submitting comments.

• Fax: (202) 493-2251.

• Mail or Hand Delivery: Docket Management Facility, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Joshua Fikentscher, Office of Crash Avoidance Standards, Vehicle Dynamics Division (NRM-220), (202) 366-1688, Room W43-467, U.S. Department of Transportation, 1200 New Jersey Avenue SE, Washington, DC 20590. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) Whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Labeling of Motor Vehicle Brake Fluid Containers in 49 CFR 571.116.

OMB Control Number: 2127-0521.

Form Number(s): N/A.

Type of Request: Reinstatement of a previously approved collection of information.

Type of Review Requested: Regular.

Requested Expiration Date of Approval: 3 years from date of approval.

Summary of the Collection of Information

The National Traffic and Motor Vehicle Safety Act authorizes the Secretary of Transportation (NHTSA by delegation), at 49 U.S.C. 30111, to issue federal motor vehicle safety standards (FMVSS) that set performance standards for motor vehicles and items of motor vehicle equipment. Manufacturers of motor vehicles and items of motor vehicle equipment subject to the FMVSS are required, by 49 U.S.C. 30115, to certify to the distributor or dealer that the vehicle or equipment complies with the applicable standards. Certification of equipment may be shown by a label or tag on the equipment or on the outside of the container in which the equipment is delivered. Further, the Secretary (NHTSA by delegation) is authorized, at 49 U.S.C. 30117, to require manufacturers to provide information to first purchasers of motor vehicles or items of motor vehicle equipment related to performance and safety in printed materials that are attached to or accompany the motor vehicle or item of motor vehicle equipment. Using this authority, the agency issued FMVSS No. 116, “Motor vehicle brake fluids”, which specifies performance and design requirements for motor vehicle brake fluids and hydraulic system mineral oils. Section 5.2.2 of the standard specifies labeling requirements for manufacturers and packagers of brake fluids, as well as packagers of hydraulic system mineral oils. Certification of equipment must be shown by a label permanently affixed to the container, in any location except a removable part such as a lid.

Description of the Need for the Information and Proposed Use of the Information

The properties of these fluids and their use necessitate the package labeling information specified in FMVSS No. 116. The information on the label of a container of motor vehicle brake fluid or hydraulic system mineral oil is necessary to ensure: The contents of the container are clearly stated; the source and packing identifiers are labeled; the fluids within the container are used for their intended purpose only; and the containers are stored correctly and not re-used when empty.

To aid in the proper selection and use of brake fluids and hydraulic system mineral oils in motor vehicles and hydraulic equipment, the owners and operators of motor vehicles, vehicle service facilities, and hydraulic equipment operators use this labeling information. Proper vehicle brake performance is crucial to the safety of motor vehicle occupants and protection of property. Without this labeling requirement, there could be improper use or storage of these brake fluids, which would have dire safety consequences for the operators of vehicles or the equipment in which they are used.

Affected Public: Manufacturers and packagers of brake fluids and hydraulic mineral oils.

Estimated Number of Respondents: 200.

NHTSA estimates that there are approximately 200 manufacturers and packagers of brake fluid or hydraulic system mineral oil.

Estimated Number of Responses: 70,000,000 labels.

Frequency: On Occasion.

Estimated Total Annual Burden Hours: 8,000 hours.

Labels are a standard part of fluid containers, even in the absence of a federal requirement for adding the safety and product information to the containers. Thus, the information required by FMVSS No. 116 would be added to a label already existing to be placed on the container and the hour burden is minimal for adding the required information. NHTSA estimates that there are currently 200 manufacturers and packagers of brake fluid or hydraulic system mineral oil, and each respondent produces approximately 24 different label types. Assuming a 5-year label redesign cycle, approximately 5 new or modified labels each year. The burden to design the layout of a label to include the additional information required by FMVSS 116 is estimated to require 8 hours. NHTSA estimates the total annual burden for manufacturers/packagers to produce labels to include the standard's information to be 8,000 hours (5 labels × 8 hours × 200 respondents).

The labor costs associated with these burden hours are derived by using hourly labor rates published by the Bureau of Labor Statistics (BLS). BLS estimates that hourly wages represent approximately 69.1% of total compensation for private industry workers.¹ For the labor costs associated with the burden hours to design the labels to include the required information, NHTSA uses the mean hourly wage of $36.52 per hour for “Technical Writers” (occupational code 27-3042) ² and applies the 69.1% factor to find the total compensation rate of $52.85 per hour ($36.52 per hour ÷ 0.691). The total annual labor costs associated with the design of labels is estimated to be $422,800 (8,000 burden hours × $52.85). The burden hours and associated labor costs are summarized in Table 1 below.

¹ Employer Costs for Employee Compensation by ownership [Sept. 2021], https://www.bls.gov/news.release/ecec.t01.htm.

² May 2019 National Industry-Specific Occupational Employment and Wage Estimates, NAICS 3250A1—Chemical Manufacturing, available at https://www.bls.gov/oes/current/naics4_3250A.htm#27-0000.

Table 1—Estimated Annual Burden Hours and Labor Cost for Designing Labels To Include Information Pursuant to § 571.116
Number of respondents | Responses per year | Total annual burden hours per respondent | Hourly labor cost | Total annual labor cost per respondent | Total annual burden hours | Total annual labor cost
200 | 70,000,00 | 40 | $52.85 | $2,114 | 8,000 | $422,800

Estimated Total Annual Burden Cost: $80,500.

Because labels are a standard part of fluid containers, even in the absence of a federal requirement to include FMVSS 116 information, there is no additional cost to affix the labels that include this information. The cost burden is an incremental cost of the ink, which NHTSA estimates to be $0.00115 per label, for adding the required information to a paper or plastic label and would be a small part of the total cost of the printing process used to produce the label.

The cost estimate of $80,500 for the total annualized costs to the respondents for adding the FMVSS 116 information to the printing cost of an existing label is calculated by multiplying the average 350,000 labels produced annually by each respondent (70,000,000 labels ÷ 200 respondents) by the estimated incremental cost of the ink per label ($0.00115). Table 2 details the costs to add the information required pursuant to FMVSS 116 to container labels.

Table 2—Estimated Annual Costs for Labels To Include Information Pursuant to § 571.116
Number of respondents | Number of labels produced per year | Number of labels produced per year per respondent | Incremental ink cost per label | Total annual cost per respondent | Total annual incremental cost
200 | 70,000,000 | 350,000 | $0.00115 | $402.50 | $80,500.00

Public Comments Invited: You are asked to comment on any aspect of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology. The agency will summarize and/or include your comments in the request for OMB's clearance of this information collection.

Authority: The Paperwork Reduction Act of 1995; 44 U.S.C. Chapter 35, as amended; 49 CFR 1.95; and DOT Order 1351.29.

Raymond R. Posten,
Associate Administrator for Rulemaking.

[FR Doc. 2022-09348 Filed 4-29-22; 8:45 am]

BILLING CODE 4910-59-P